DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on August 1, 2022, through August 31, 2022. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Health Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Carole Johnson,
Administrator.

List of Petitions Filed

1. Kimberly DeVaughn, Maryville, Tennessee, Court of Federal Claims No: 22-0832V

2. Nathaniel Shipp on behalf of The Estate of Robert Thaner, Deceased, Trumbull, Connecticut, Court of Federal Claims No: 22-0833V

3. Antoinette Liss, Boston, Massachusetts, Court of Federal Claims No: 22-0837V

4. Barbara J. Reyelts, Duluth, Minnesota, Court of Federal Claims No: 22-0838V

5. Betty Moreland, Albany, Kentucky, Court of Federal Claims No: 22-0839V

6. Janine Etchebarren-Scholes, Ontario, California, Court of Federal Claims No: 22-0840V

7. Jennifer Smith on behalf of A. P., Phoenix, Arizona, Court of Federal Claims No: 22-0841V

8. Candy Flores Arzate, Tampa, Florida, Court of Federal Claims No: 22-0842V

9. Christine Ragsdale, Lyles, Tennessee, Court of Federal Claims No: 22-0843V

10. Nina McDaniel, Evansville, Indiana, Court of Federal Claims No: 22-0844V

11. Melissa J. Teichner, Richmond, Virginia, Court of Federal Claims No: 22-0845V

12. Sara Portner, Chicago, Illinois, Court of Federal Claims No: 22-0847V

13. Cynthia Hebert, West Springfield, Massachusetts, Court of Federal Claims No: 22-0849V

14. William Jones, Boscobel, Wisconsin, Court of Federal Claims No: 22-0850V

15. Melinda McDonald, Pearland, Texas, Court of Federal Claims No: 22-0851V

16. Heidemarie Johnston, Stafford, Virginia, Court of Federal Claims No: 22-0852V

17. Ricky Blake Norville, Greenville, North Carolina, Court of Federal Claims No: 22-0854V

18. Nancy Hughes, Columbia, Maryland, Court of Federal Claims No: 22-0855V

19. James Jennings, Hendersonville, Tennessee, Court of Federal Claims No: 22-0856V

20. Ilana Rochelle Smith, East Point, Georgia, Court of Federal Claims No: 22-0857V

21. Sharon Chung, Lawrenceville, Georgia, Court of Federal Claims No: 22-0858V

22. Ashley Perez, Dartmouth, New Hampshire, Court of Federal Claims No: 22-0859V

23. Kimberly W. Center, Carrollton, Virginia, Court of Federal Claims No: 22-0861V

24. Gwen Twiehaus on behalf of Q. W., Burleson, Texas, Court of Federal Claims No: 22-0862V

25. Amy Vargas-Stellon and Albert Stellon on behalf of J. S., Boston, Massachusetts, Court of Federal Claims No: 22-0863V

26. William Eddy, Worcester, Massachusetts, Court of Federal Claims No: 22-0864V

27. Jamie Nardulli on behalf of A. N., Phoenix, Arizona, Court of Federal Claims No: 22-0865V

28. Roxanne Adkins, Boston, Massachusetts, Court of Federal Claims No: 22-0869V

29. Todd Palmer, Aventura, Florida, Court of Federal Claims No: 22-0870V

30. Erin Mordecai, Queen Creek, Arizona, Court of Federal Claims No: 22-0872V

31. Erla Wise, Columbus, Ohio, Court of Federal Claims No: 22-0876V

32. Julie Fisher, San Diego, California, Court of Federal Claims No: 22-0877V

33. Lisa Riley, Bend, Oregon, Court of Federal Claims No: 22-0878V

34. Jerry Smith, Washington, District of Columbia, Court of Federal Claims No: 22-0879V

35. Tyrone William Mahan, Jackson, Michigan, Court of Federal Claims No: 22-0880V

36. Frances Thomas, Washington Twp., New Jersey, Court of Federal Claims No: 22-0882V

37. Debora Reabe, Charleroi, Pennsylvania, Court of Federal Claims No: 22-0883V

38. Karen Eberly, Medford, Oregon, Court of Federal Claims No: 22-0884V

39. Juan Carlos Lopez, Phoenix, Arizona, Court of Federal Claims No: 22-0886V

40. Kristin Homovich on behalf of K. B., Phoenix, Arizona, Court of Federal Claims No: 22-0889V

41. Lee Ann Carey, Dallas, Pennsylvania, Court of Federal Claims No: 22-0890V

42. Jill Professori, Southeastern, Pennsylvania, Court of Federal Claims No: 22-0891V

43. Jesina Settlemier, Grapevine, Texas, Court of Federal Claims No: 22-0892V

44. Wendy Balser, New Orleans, Louisiana, Court of Federal Claims No: 22-0893V

45. Jasmin Augustine on behalf of S. A., Irvine, California, Court of Federal Claims No: 22-0894V

46. Kimberly Gonzales on behalf of L. G., Phoenix, Arizona, Court of Federal Claims No: 22-0895V

47. John Schoonveld, Boston, Massachusetts, Court of Federal Claims No: 22-0897V

48. Jake Blalock, Fort Worth, Texas, Court of Federal Claims No: 22-0900V

49. Debra McFarland, Phenix City, Alabama, Court of Federal Claims No: 22-0901V

50. Kelly Justice, Pataskala, Ohio, Court of Federal Claims No: 22-0903V

51. Michelle Delaney, New York, New York, Court of Federal Claims No: 22-0904V

52. Amanda Flores on behalf of J. F., Phoenix, Arizona, Court of Federal Claims No: 22-0905V

53. Alyssa Adamson, Denver, Colorado, Court of Federal Claims No: 22-0906V

54. Austin DeGrange, Phoenix, Arizona, Court of Federal Claims No: 22-0907V

55. Timothy Redman, Ellenville, New York, Court of Federal Claims No: 22-0910V

56. Khalia Jones, New Rochelle, New York, Court of Federal Claims No: 22-0911V

57. Margaret Reagan, Hamburg, New York, Court of Federal Claims No: 22-0912V

58. Matthew Ziegler, Kew Gardens, New York, Court of Federal Claims No: 22-0913V

59. James Conley, Cleveland, Ohio, Court of Federal Claims No: 22-0914V

60. Aaron Lindh, Waupun, Wisconsin, Court of Federal Claims No: 22-0915V

61. Abbey E. Rayner-Russell, Hartford, Connecticut, Court of Federal Claims No: 22-0916V

62. Shirley Rumph, Philadelphia, Pennsylvania, Court of Federal Claims No: 22-0918V

63. Nona Kay Rasmussen Edwards, Bountiful, Utah, Court of Federal Claims No: 22-0919V

64. Marie Gonzalez and Pedro Quiles on behalf of L. Q. G., Phoenix, Arizona, Court of Federal Claims No: 22-0929V

65. Amanda Wilkes, Marietta, Georgia, Court of Federal Claims No: 22-0930V

66. Corinne Gence, San Rafael, California, Court of Federal Claims No: 22-0937V

67. Chandra Guzman, Boston, Massachusetts, Court of Federal Claims No: 22-0957V

68. Ashley B. Johns, Phoenix, Arizona, Court of Federal Claims No: 22-0976V

69. Megin Meyer, Danbury, Connecticut, Court of Federal Claims No: 22-0981V

70. Edward Wright, Minneapolis, Minnesota, Court of Federal Claims No: 22-0986V

71. Pamela Flaggs, Locust Grove, Georgia, Court of Federal Claims No: 22-0988V

72. Soriely Flores, Phoenix, Arizona, Court of Federal Claims No: 22-0989V

73. Matthew Valentine, Williamstown, New Jersey, Court of Federal Claims No: 22-0994V

74. Michelle Moises, Seattle, Washington, Court of Federal Claims No: 22-0995V

75. Hien Thai on behalf of Estate of Ho Cam Thai, Greensboro, North Carolina, Court of Federal Claims No: 22-1011V

76. Chris L. Strout on behalf of Estate of Diane M. Strout, Deceased, Rumford, Maine, Court of Federal Claims No: 22-1013V

77. Tin Ying, Englewood Cliffs, New Jersey, Court of Federal Claims No: 22-1014V

78. Stevie Honaker, Richmond, Virginia, Court of Federal Claims No: 22-1015V

79. David Lind, Arden Hills, Minnesota, Court of Federal Claims No: 22-1016V

80. John Hardy, Brooklyn Center, Minnesota, Court of Federal Claims No: 22-1017V

81. Rhonda Angerosa, New Hartford, New York, Court of Federal Claims No: 22-1022V

82. Eric Doenlen, Abington, Pennsylvania, Court of Federal Claims No: 22-1025V

83. Juan Carlos Lopez, Phoenix, Arizona, Court of Federal Claims No: 22-1032V

84. Valeria Betancourt, Phoenix, Arizona, Court of Federal Claims No: 22-1033V

85. Frankie Hicks, Savannah, Georgia, Court of Federal Claims No: 22-1034V

86. Alona Sheynin Albert, Boston, Massachusetts, Court of Federal Claims No: 22-1035V

87. Andrea Votta on behalf of A. V., Phoenix, Arizona, Court of Federal Claims No: 22-1050V

88. Mark Densmore on behalf of E. D., Phoenix, Arizona, Court of Federal Claims No: 22-1052V

89. Terralee Patko, Phoenix, Arizona, Court of Federal Claims No: 22-1059V

90. Nelva Ventresca, Champaign, Illinois, Court of Federal Claims No: 22-1060V

91. Nicole Jackson, Detroit, Michigan, Court of Federal Claims No: 22-1061V

92. Vijay Velu, Morrisville, North Carolina, Court of Federal Claims No: 22-1062V

93. Batholomew Gold, Los Angeles, California, Court of Federal Claims No: 22-1063V

94. Denise Baptiste, Waterbury, Connecticut, Court of Federal Claims No: 22-1065V

95. Ronald V. Blair, Los Angeles, California, Court of Federal Claims No: 22-1092V

96. Li Ha, Austell, Georgia, Court of Federal Claims No: 22-1093V

97. Michelle Leon, Oviedo, Florida, Court of Federal Claims No: 22-1094V

98. Jerry Lee Cooper, Atlanta, Georgia, Court of Federal Claims No: 22-1095V

99. Ashley MacAlister, Missoula, Montana, Court of Federal Claims No: 22-1096V

100. Joyce Clause, Murray, Kentucky, Court of Federal Claims No: 22-1097V

101. JoAnne S. Taylor, Dahlonega, Georgia, Court of Federal Claims No: 22-1098V

102. Maureen Murray, Minooka, Illinois, Court of Federal Claims No: 22-1099V

103. Robert Peacock and Therese Wehby on behalf of C. P., Phoenix, Arizona, Court of Federal Claims No: 22-1117V

104. Melanie Bostic on behalf of K. T., Jacksonville, Florida, Court of Federal Claims No: 22-1118V

105. Richard Pendergraft, Evansville, Indiana, Court of Federal Claims No: 22-1119V

106. Betty Jean Jean Wegener, Fenton, Michigan, Court of Federal Claims No: 22-1120V

107. Erika Grove, Dresher, Pennsylvania, Court of Federal Claims No: 22-1121V

108. Eric Conway, Phoenix, Arizona, Court of Federal Claims No: 22-1122V

109. Matthew Laurenzi, Phoenix, Arizona, Court of Federal Claims No: 22-1123V

110. Christopher Reams, Auburn, California, Court of Federal Claims No: 22-1124V

111. Rita Evans, Washington, District of Columbia, Court of Federal Claims No: 22-1125V

112. Sandra Panovich Craft, Chagrin Falls, Ohio, Court of Federal Claims No: 22-1126V

113. Carolyn Olivares on behalf of G. F., Phoenix, Arizona, Court of Federal Claims No: 22-1127V

114. Michelle Smith on behalf of J. S., Phoenix, Arizona, Court of Federal Claims No: 22-1128V

115. Michael Otero, Miami Shores, Florida, Court of Federal Claims No: 22-1129V

116. Tony Campbell, Sarasota, Florida, Court of Federal Claims No: 22-1130V

117. John Theisen, Dresher, Pennsylvania, Court of Federal Claims No: 22-1131V

118. Robert Rose, Boston, Massachusetts, Court of Federal Claims No: 22-1132V

119. Adonnis Conner, Waupun, Wisconsin, Court of Federal Claims No: 22-1133V

120. Allen Moure, Norwich, Connecticut, Court of Federal Claims No: 22-1134V

121. Jill Popejoy, Pittsburg, Kansas, Court of Federal Claims No: 22-1136V

122. Elizabeth Walter, Sarasota, Florida, Court of Federal Claims No: 22-1148V

123. Tammy Musselman, Kenney, Illinois, Court of Federal Claims No: 22-1149V

124. Ashley Stevens and Nicholas Stevens on behalf of G. S., Phoenix, Arizona, Court of Federal Claims No: 22-1150V

125. Virginia Dowling, Crestview, Florida, Court of Federal Claims No: 22-1151V

126. John Patton, Boston, Massachusetts, Court of Federal Claims No: 22-1152V

127. Joanna King, East Longmeadow, Massachusetts, Court of Federal Claims No: 22-1153V

[FR Doc. 2022-21349 Filed 9-30-22; 8:45 am]

BILLING CODE 4165-15-P